DEPARTMENT OF HOUSING AND URBAN DEVELOPMENT

[Docket No. FR-7062-N-15]

Privacy Act of 1974; System of Records

AGENCY: Office of Policy Development & Research, HUD.

ACTION: Notice of a modified system of records.

SUMMARY: The purpose of the Rental Assistance Demonstration (RAD) Evaluation is to assess the effect of the RAD program. This evaluation will assess the implementation and effect of the choice mobility option on properties, tenants, and the voucher program; the impact of RAD on the long-term preservation and financial viability of converted properties; the adequacy of asset management for RAD conversions; PHA's organizational change; and other RAD tenant protections and outcomes. This System of Records pertains primarily to the choice mobility component of the study, specifically the aspect of that component that evaluates the effect of the choice mobility option on tenant outcomes, but also includes some of the other components of the study. The study will use HUD administrative data to determine which residents lived in a RAD-converted property and are eligible for the RAD choice mobility option and are still residents at those properties or have since left the property using a tenant-based voucher. The study includes a census of residents who used the choice mobility option and a survey of residents eligible to use the choice mobility option but remained in their RAD-converted developments. The study will also collect PII on property owners/managers, including their names and contact information, to survey them about the impact of RAD on long-term preservation, financial viability, and asset management.

DATES: Comments will be accepted on or before September 19, 2022. This proposed action will be effective on the date following the end of the comment period unless comments are received which result in a contrary determination.

ADDRESSES: You may submit comments, identified by docket number by one of these methods:

Federal e-Rulemaking Portal: http://www.regulations.gov. Follow the instructions provided on that site to submit comments electronically.

Fax: 202-619-8365.

Email: www.privacy@hud.gov.

Mail: Attention: Privacy Office; LaDonne White; The Executive Secretariat; 451 Seventh Street SW, Room 10139; Washington, DC 20410.

Instructions: All submissions received must include the agency name and docket number for this rulemaking. All comments received will be posted without change to http://www.regulations.gov. including any personal information provided.

Docket: For access to the docket to read background documents or comments received go to http://www.regulations.gov.

FOR FURTHER INFORMATION CONTACT: Ladonne White; 451 Seventh Street SW, Room 10139; Washington, DC 20410; telephone number 202-708-3054 (this is not a toll-free number). Individuals who are hearing- or speech-impaired may access this telephone number via TTY by calling the Federal Relay Service at 800-877-8339 (this is a toll-free number).

SUPPLEMENTARY INFORMATION: HUD sponsored the first phase of the RAD evaluation, which was conducted by Econometrica, the Urban Institute, and SSRS and was completed in 2019. Econometrica, the Urban Institute, and SSRS will conduct the next phase of the evaluation. This SORN is being revised to include those evaluation activities. Specific changes to the SORN include:

a. Updated system location. It added the new address of the Urban Institute.

b. Changes to the purpose of the system. It revised the purpose in accordance with evaluation activities of the next phase of the RAD evaluation.

c. Changes to the categories of individuals covered by the system. It added PHA staff and property owners or operators.

d. Changes to categories of records in the system and sources categories. It added surveys of PHA staff and property owners or operators.

SYSTEM NAME AND NUMBER:

Rental Assistance Demonstration (RAD) Program Evaluation Data Files, PD&R/RRE.01.

SECURITY CLASSIFICATION:

Unclassified.

SYSTEM LOCATION:

Department of Housing and Urban Development, 451 Seventh Street SW, Washington, DC 20410; Econometrica, 7475 Wisconsin Ave #1000, Bethesda, MD 20814; Urban Institute, 500 L'Enfant Plaza SW, Washington, DC 20024; The SSRS, 1 Braxton Way, Suite 125, Glen Mills, PA, 19342.

SYSTEM MANAGER(S):

Carol Star, Director, Division of Program Evaluation, Department of Housing and Urban Development, Office of Policy Development and Research, 451 Seventh Street SW, Room 8120, Washington, DC 20410. Phone: (202) 402-6139.

AUTHORITY FOR MAINTENANCE OF THE SYSTEM:

Section 502 (g) of the Housing and Urban Development Act of 1970 (Pub. L. 91-609) (12 U.S.C. 1701z-1; 1701z-2(d) and (g)).

PURPOSES OF THE SYSTEM:

The purpose of the Rental Assistance Demonstration (RAD) Evaluation is to assess the effect of the RAD program. RAD provides owners and Public Housing Authorities (PHAs) with access to additional funding to make needed physical improvements to such properties.

CATEGORIES OF INDIVIDUALS COVERED BY THE SYSTEM:

Current and former residents of a RAD-converted property; PHA staff, and the owners and managers of RAD conversions.

CATEGORIES OF RECORDS IN THE SYSTEM:

The data sets will contain the following categories of records.

Responses to resident survey: Include participant's full name, home address, unique household identifier, and perception of health status.

Responses to property owner or operator survey: Include respondent's full name, title or position, email address, and phone number.

Responses to PHA survey and interview: Include respondent's full name, title or position, email address, phone number, and audio recording from interview.

Administrative data: Include data on tenant's full name, date of birth, age, gender, race/ethnicity, disability status, income/salary, geolocation information, home address, unique household identifier; property owner or manager's full name, employment status (title or position), name of employer, email address, phone number.

Locational data: Include data such as the address and location of participating household. These data sets will be drawn from a variety of sources, including the National Change of Address database, proprietary databases such as Accurint, and directly from participating households.

RECORD SOURCE CATEGORIES:

• RAD program participants

• Property owners and operators

• PHA respondents

• HUD administrative data systems:

○ Tenant Rental Assistance Certification System (TRACS), SORN HUD/H-11;

○ PIH Inventory Management System/PIH Information Center (IMS/PIC), SORN PIH-FRN;

○ Integrated Real Estate Management System (iREMS), SORN HSNG.MF/HTS.01.

• Locational data from non-federal proprietary databases: National Change of Address (NCOA) and Accurint.

ROUTINE USES OF RECORDS MAINTAINED IN THE SYSTEM, INCLUDING CATEGORIES OF USERS AND PURPOSES OF SUCH USES:

(1) To a congressional office from the record of an individual, in response to an inquiry from the congressional office made at the request of that individual.

(2) To contractors, grantees, experts, consultants, Federal agencies, and non-Federal entities, including, but not limited to, State and local governments and other research institutions or their parties, and entities and their agents with whom HUD has a contract, service agreement, grant, cooperative agreement, or other agreement for the purpose of statistical analysis and research supporting program operations, management, performance monitoring, evaluation, risk management, and policy development, or to otherwise support the Department's mission. Records under this routine use may not be used in whole or in part to make decisions that affect the rights, benefits, or privileges of specific individuals. The results of the matched information may not be disclosed in identifiable form.

(3) To contractors, experts and consultants with whom HUD has a contract, service agreement, or other assignment of the Department, when necessary to utilize data to test new technology and systems designed to enhance program operations and performance.

(4)(a) To appropriate agencies, entities, and persons when: (1) HUD suspects or has confirmed there has breached the system of records; (2) HUD has determined that as a result of the suspected or confirmed breach there is a risk of harm to individuals, HUD (including its information systems, programs, and operations), the Federal Government, or national security; and (3) The disclosure made to such agencies, entities, and persons is reasonably necessary to assist with HUD's efforts to respond to the suspected or confirmed breach or to prevent, minimize, or remedy such harm.

(5) To another Federal agency or Federal entity, when HUD determines that information from this system of records is reasonably necessary to assist the recipient agency or entity in (1) responding to suspected or confirmed breach, or (2) preventing, minimizing, or remedying the risk of harm to individuals, the recipient agency or entity (including its information systems, programs, and operations), the Federal Government, or national security, resulting from a suspected or confirmed breach.

(6) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

(7) To a court, magistrate, administrative tribunal, or arbitrator in the course of presenting evidence, including disclosures to opposing counsel or witnesses in the course of civil discovery, litigation, mediation, or settlement negotiations; or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

(8) To appropriate Federal, State, local, tribal, or governmental agencies or multilateral governmental organizations responsible for investigating or prosecuting the violations of, or for enforcing or implementing, a statute, rule, regulation, order, or license, where HUD determines that the information would assist in the enforcement of civil or criminal laws when such records, either alone or in conjunction with other information, indicate a violation or potential violation of law. Records may only be disclosed upon a showing by the requester that the information is pertinent to the investigation.

POLICIES AND PRACTICES FOR STORAGE OF RECORDS:

Records are maintained paper and electronic.

POLICIES AND PRACTICES FOR RETRIEVAL OF RECORDS:

Name, home address, telephone number, and personal email address.

POLICIES AND PRACTICIES FOR RETENTION AND DISPOSAL OF RECORDS:

Records will be retired to Federal Records Center three years after satisfactory close of project that volume warrants. Records will be destroyed six years after satisfactory close of project.

ADMINISTRATIVE, TECHNICAL, AND PHYSICAL SAFEGUARDS:

This system is being developed for the exclusive purpose of developing data files for the Rental Assistance Demonstration (RAD) evaluation. All data collected will be input and stored in a secure database; electronic materials with identifying information will be stored on a secure server in password-protected and/or encrypted files. Information identifying particular respondents will be shared only with staff members who have signed Data Confidentiality Pledges and who need the information for research purposes. Hard-copy materials containing respondent identifying information will be locked up when not in use. Transfer of personally identifiable information between HUD and HUD's contractors will take place through secure server or transportable media encrypted.

RECORD ACCESS PROCEDURES:

Individuals seeking notification of and access to their records in this system of records may submit a request in writing to the Department of Housing and Urban Development, Attn: FOIA Program Office, 451 7th Street SW, Suite 10139, Washington, DC 20410-0001 or by emailing foia@hud.gov. Individuals must furnish the following information for their records to be located:

1. Full name.

2. Signature.

3. The reason why the individual believes this system contains information about him/her.

4. The address to which the information should be sent.

CONTESTING RECORD PROCEDURES:

Same as the Notification Procedures Below.

NOTIFICATION PROCEDURES:

Any person wanting to know whether this system of records contains information about him or her should contact the System Manager. Such person should provide his or her full name, position title and office location at the time the accommodation was requested, and a mailing address to which a response is to be sent.

EXEMPTIONS PROMULGATED FOR THE SYSTEM:

None.

HISTORY:

This is a revision to SORN No. PD&R/RRE.01, published in the Federal Register on January 22, 2015 (FR-5843-N-01).

LaDonne White,
Chief Privacy Officer, Office of Administration.

[FR Doc. 2022-17904 Filed 8-18-22; 8:45 am]

BILLING CODE 4210-67-P